DEPARTMENT OF COMMERCE

International Trade Admintration

[A-523-808]

Certain Steel Nails From the Sultanate of Oman: Preliminary Results of Antidumping Duty Administrative Review and Preliminary Determination of No Shipments; 2020-2021

AGENCY: Enforcement and Compliance, International Trade Administration, Department of Commerce.

SUMMARY: The U.S. Department of Commerce (Commerce) is conducting an administrative review of the antidumping duty order on certain steel nails (steel nails) from the Sultanate of Oman (Oman). This review covers 15 exporters and producers from Oman. We have preliminarily assigned the sole mandatory respondent, Oman Fasteners LLC (Oman Fasteners), an antidumping duty margin based on the application of adverse facts available for the period of review (POR) July 1, 2020, through June 30, 2021. In addition, we preliminarily find that Astrotech Steels Private Ltd. (Astrotech); Geekay Wires Ltd. (Geekay); and Trinity Steel Pvt. Ltd. (Trinity) had no shipments during the POR. Interested parties are invited to comment on these preliminary results.

DATES: Applicable July 20, 2022.

FOR FURTHER INFORMATION CONTACT: Dakota Potts, AD/CVD Operations, Office IV, Enforcement and Compliance, International Trade Administration, U.S. Department of Commerce, 1401 Constitution Avenue NW, Washington, DC 20230; telephone: (202) 482-0223.

SUPPLEMENTARY INFORMATION:

Background

On July 13, 2015, Commerce published the antidumping duty order on steel nails from Oman.¹ On July 1, 2021, we published a notice of opportunity to request an administrative review of the Order.² On September 7, 2021, based on timely requests for an administrative review, Commerce published a notice of initiation of the administrative review.³ Commerce initiated this administrative review covering the following 15 companies: Airlift Trans Oceanic Pvt. Ltd.; Al Kiyumi Global LLC; Al Sarah Building Materials LLC; Astrotech; CL Synergy (Pvt) Ltd.; Geekay; Gulf Steel Manufacturers LLC; Modern Factory For Metal Products; Oman Fasteners LLC; Omega Global Uluslararasi Tasimacilik Lojistik Ticaret Ltd Sti.; Overseas International Steel Industry, LLC; Swift Freight India Private Ltd.; Trinity; Universal Freight Services LLC; and WWL Indian Private Ltd.⁴ Commerce selected Oman Fasteners as the sole mandatory respondent for individual examination in this review.⁵

¹ See Certain Steel Nails from the Republic of Korea, Malaysia, the Sultanate of Oman, Taiwan, and the Socialist Republic of Vietnam: Antidumping Duty Orders, 80 FR 39994 (July 13, 2015) (Order).

² See Antidumping or Countervailing Duty Order, Finding, or Suspended Investigation; Opportunity To Request Administrative Review, 86 FR 35065 (July 1, 2021) (Opportunity Notice).

³ See Initiation of Antidumping and Countervailing Duty Administrative Reviews, 86 FR 50034 (September 7, 2021).

⁴ Id.

⁵ See Memorandum, “Antidumping Duty Administrative Review of Steel Nails from the Sultanate of Oman: Selection of Respondent for Individual Review,” dated October 13, 2021.

On March 30, 2022, Commerce extended the time limit for completing the preliminary results of this review, until June 1, 2022.⁶ On May 25, 2022, Commerce extended the time limit for completing the preliminary results by an additional 30 days, until July 1, 2022.⁷

⁶ See Memorandum, “Certain Steel Nails from the Sultanate of Oman: Extension of Deadline for Preliminary Results of Antidumping Duty Administrative Review,” dated March 30, 2022.

⁷ See Memorandum, “Certain Steel Nails from the Sultanate of Oman: Extension of Deadline for Preliminary Results of Antidumping Duty Administrative Review,” dated May 25, 2022.

For a complete description of the events since the initiation of this review, see the Preliminary Decision Memorandum.⁸ A list of the topics included in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁸ See Memorandum, “Decision Memorandum for the Preliminary Results of the Antidumping Duty Administrative Review of Certain Steel Nails from the Sultanate of Oman; 2020-2021,” dated concurrently with, and hereby adopted by, this notice (Preliminary Decision Memorandum).

Scope of the Order

The merchandise covered by the scope of this Order is steel nails from Oman. A complete description of the scope of the Order is contained in the Preliminary Decision Memorandum.⁹

⁹ Id.

Preliminary Determination of No Shipments

Based upon the no-shipment certifications received by Commerce, and our review of the U.S. Customs and Border Protection (CBP) data, we preliminary find that Astrotech, Geekay, and Trinity had no shipments during the POR. CBP did not have any information to contradict the claims of no shipments during the POR. Consistent with Commerce's practice, we will not rescind the review with respect to Astrotech, Geekay, and Trinity in these preliminary results, but rather will complete the review and issue appropriate liquidation instructions to CBP based on the final results.¹⁰ For additional information regarding this determination, see the Preliminary Decision Memorandum.

¹⁰ See Polyethylene Terephthalate Film, Sheet, and Strip from Taiwan: Preliminary Results of Antidumping Duty Administrative Review and Preliminary Determination of No Shipments; 2018-2019, 85 FR 74673 (November 23, 2020), unchanged in Polyethylene Terephthalate Film, Sheet, and Strip (PET Film) from Taiwan: Final Results of Antidumping Duty Administrative Review; 2018-2019, 86 FR 14311 (March 15, 2021).

Application of Facts Available with Adverse Inferences

Pursuant to section 776(a)-(b) of the Tariff Act of 1930, as amended (the Act), Commerce is preliminarily relying upon total adverse facts available (AFA) to determine a weighted-average dumping margin for Oman Fasteners in this review. Commerce preliminary finds that necessary information is not available on the record, and that Oman Fasteners failed to provide the requested information by the deadlines established by Commerce and significantly impeded the proceeding, warranting a determination on the basis of facts available under section 776(a) of the Act. Further, Commerce preliminarily determines that Oman Fasteners failed to cooperate to the best of its ability in complying with Commerce's request for information, thus warranting use of an adverse inference in selecting from among the facts otherwise available, in accordance with section 776(b) of the Act. For a full description of the methodology underlying our conclusions regarding the application of AFA, see the Preliminary Decision Memorandum.

Rate for Non-Selected Companies

In accordance with the U.S. Court of Appeals for the Federal Circuit's decision in Albermarle, ¹¹ we are applying a rate based on the all-others rate applied in prior segments of this proceeding (i.e., 9.10 percent) to the eleven companies not selected for individual examination. In this review, we find this rate is reasonably reflective of the non-selected companies' potential dumping margins, and thus, it is appropriate to apply this rate to the non-selected companies, under section 735(c)(5)(B) of the Act. For a detailed discussion, see the Preliminary Decision Memorandum.

¹¹ See Albemarle Corp. v. United States, 821 F.3d 1345 (Fed. Cir. 2016) (Albemarle).

Preliminary Results of Review

Commerce preliminary determines that the following estimated weighted-average dumping margins exist for the period July 1, 2020, through June 30, 2021:

Exporter/producer | Weighted- average dumping margin (percent)
Oman Fasteners LLC | ¹² 154.33
Non-Selected Companies ¹³ | 9.10

¹² Based on total AFA. For a full description of the methodology underlying our conclusions regarding the application of AFA, see the Preliminary Decision Memorandum.

¹³ The eleven non-selected companies are: Airlift Trans Oceanic Pvt. Ltd.; Al Kiyumi Global LLC; Al Sarah Building Materials LLC; CL Synergy (Pvt) Ltd.; Gulf Steel Manufacturers LLC; Modern Factory For Metal Products; Omega Global Uluslararasi Tasimacilik Lojistik Ticaret Ltd Sti.; Overseas International Steel Industry, LLC; Swift Freight India Private Ltd.; Universal Freight Services LLC; and WWL Indian Private Ltd.

Disclosure and Public Comment

Normally, Commerce discloses to interested parties the calculations performed in connection with preliminary results within five days after the date of public announcement or publication of this notice. However, because Commerce preliminarily applied a rate based entirely on AFA to the sole mandatory respondent under review in accordance with section 776 of the Act, there are no calculations to disclose.

Pursuant to 19 CFR 351.309(c), interested parties may submit case briefs no later than 30 days after the date of publication of this notice. Rebuttal briefs, limited to issues raised in the case briefs, may be filed no later than seven days after the date for filing case briefs.¹⁴ Parties that submit case or rebuttal briefs in this proceeding are encouraged to submit with each argument: (1) a statement of the issue; (2) a brief summary of the argument; and (3) a table of authorities.¹⁵ Note that Commerce has temporarily modified certain portions of its requirements for serving documents containing business proprietary information, until further notice.¹⁶

¹⁴ See 19 CFR 351.309(d).

¹⁵ See 19 CFR 351.309(c) and (d); see also 19 CFR 351.303 (for general filing requirements).

¹⁶ See Temporary Rule Modifying AD/CVD Service Requirements Due to COVID-19; Extension Effective Period, 85 FR 41363 (July 10, 2020).

Pursuant to 19 CFR 351.310(c), interested parties who wish to request a hearing, limited to issues raised in the case and rebuttal briefs, must submit a written request to the Assistant Secretary for Enforcement and Compliance, U.S. Department of Commerce, filed electronically via ACCESS within 30 days of the date of publication of this notice. Requests should contain: (1) the party's name, address, and telephone number; (2) the number of participants; (3) whether any participant is a foreign national; and (4) a list of the issues to be discussed. If a request for a hearing is made, Commerce intends to hold the hearing at a time and date to be determined. Parties should confirm by telephone the date, time, and location of the hearing two days before the scheduled date. An electronically-filed hearing request must be received successfully in its entirety by ACCESS by 5:00 p.m. Eastern Time on the established deadline.

Commerce intends to issue the final results of this administrative review, including the results of its analysis of issues raised in the case briefs, no later than 120 days after the date of publication of this notice, pursuant to section 751(a)(3)(A) of the Act, unless otherwise extended.

Assessment Rates

Upon issuance of the final results of this administrative review, Commerce shall determine, and CBP shall assess, antidumping duties on all appropriate entries covered by this review.¹⁷ The final results of this review shall be the basis for the assessment of antidumping duties on entries of merchandise covered by this review and for future deposits of estimated duties, where applicable.¹⁸

¹⁷ See 19 CFR 351.212(b)(1).

¹⁸ See section 751(a)(2)(C) of the Act.

In accordance with Commerce's “automatic assessment” practice, for entries of subject merchandise during the POR produced by Oman Fasteners for which the company did not know that the merchandise was destined for the United States, we will instruct CBP to liquidate those entries at the all-others rate if there is no rate for the intermediate company(ies) involved in the transaction.¹⁹

¹⁹ For a full description of this practice, see Antidumping and Countervailing Duty Proceedings: Assessment of Antidumping Duties, 68 FR 23954 (May 6, 2003).

Should we continue to apply facts available with an adverse inference to Oman Fasteners in the final results, we will instruct CBP to apply an assessment rate equal to the dumping margin of 154.33 percent, as indicated above, to all entries produced and/or exported by Oman Fasteners. The assessment rate for antidumping duties for each of the companies not selected for individual examination will be equal to the weighted-average dumping margin identified in the final results of review. We intend to issue instructions to CBP no earlier than 35 days after the publication date of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of this administrative review for all shipments of the subject merchandise entered, or withdrawn from warehouse, for consumption on or after the date of publication, as provided by section 751(a)(2)(C) of the Act: (1) the cash deposit rate for the companies listed in the final results of this review will be equal to the weighted-average dumping margin established in the final results of this administrative review; (2) for merchandise exported by producers or exporters not covered in this review but covered in a prior segment of the proceeding, the cash deposit rate will continue to be the company-specific rate published for the most recently-completed segment of this proceeding in which they were reviewed; (3) if the exporter is not a firm covered in this review, a prior review, or the original investigation, but the producer is, then the cash deposit rate will be the rate established for the most recently completed segment of this proceeding for the producer of the merchandise; (4) the cash deposit rate for all other producers or exporters will continue to be 9.10 percent, the all-others rate established in the less-than-fair-value investigation.²⁰ The cash deposit requirements, when imposed, shall remain in effect until further notice.

²⁰ See Order.

Notification to Importers

This notice serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Interested Parties

Commerce is issuing and publishing these results in accordance with sections 751(a)(1) and 777(i)(1) of the Act and 19 CFR 351.221(b)(4).

Dated: July 1, 2022.
Ryan Majerus,
Deputy Assistant Secretary for Policy and Negotiations.

Appendix

List of Topics Discussed in the Preliminary Decision Memorandum

I. Summary

II. Background

III. Scope of the Order

IV. Preliminary Determination of No Shipments

V. Application of Facts Available and Use of Adverse Inferences

VI. Rate for Non-Selected Companies

VII. Recommendation

[FR Doc. 2022-15487 Filed 7-19-22; 8:45 am]

BILLING CODE 3510-DS-P